DEPARTMENT OF DEFENSE

Office of the Secretary

Renewal of Department of Defense Federal Advisory Committees

AGENCY: DoD.

ACTION: Renewal of Federal Advisory Committee.

SUMMARY: Under the provisions of 10 U.S.C. 175 and 10301, the Federal Advisory Committee Act of 1972, (5 U.S.C. Appendix), the Government in the Sunshine Act of 1976 (5 U.S.C. 552b), and 41 CFR 102-3.50, the Department of Defense gives notice that it is renewing the charter for the Reserve Forces Policy Board (hereafter referred to as the “Board”).

The Board is a non-discretionary federal advisory committee that shall provide the Secretary of Defense, through the Under Secretary of Defense (Personnel and Readiness) and the Assistant Secretary of Defense (Reserve Affairs), independent advice and recommendations on matters relating to the Reserve Components. The Board shall act on those matters referred to it by the Chairman and, in addition, on any matter raised by a member of the Board.

The Under Secretary of Defense (Personnel and Readiness) may act upon the Board's advice and recommendations.

The Board, pursuant to 10 U.S.C. 10301(a), shall be composed of:

a. A civilian chairman appointed by the Secretary of Defense;

b. The Assistant Secretary of the Army for Manpower and Reserve Affairs, the Assistant Secretary of the Navy for Manpower and Reserve Affairs, and the Assistant Secretary of the Air Force for Manpower and Reserve Affairs;

c. An officer of the Regular Army designated by the Secretary of the Army;

d. An officer of the Regular Navy and an officer of the Regular Marine Corps each designated by the Secretary of the Navy;

e. An officer of the Regular Air Force designated by the Secretary of the Air Force;

f. Four reserve officers designated by the Secretary of Defense upon the recommendation of the Secretary of the Army, two of whom must be members of the Army National Guard of the United States, and two of whom must be members of the Army Reserve;

g. Four reserve officers designated by the Secretary of Defense upon the recommendation of the Secretary of the Navy, two of whom must be members of the Navy Reserve, and two of whom must be members of the Marine Corps Reserve;

h. Four reserve officers designated by the Secretary of Defense upon the recommendation of the Secretary of the Air Force, two of whom must be members of the Air National Guard of the United States, and two of whom must be members of the Air Force Reserve;

i. A reserve officer of the Army, Navy, Air Force, or Marine Corps who is a general officer or flag officer designated by the Chairman of the Board with the approval of the Secretary of Defense, and who serves without vote as military adviser to the Chairman and as executive officer of the Board; and

j. An officer of the Regular Army, Regular Navy, Regular Air Force, or Regular Marine Corps serving in a position on the Joint Staff who is designated by the Chairman of the Joint Chiefs of Staff.

In addition to the aforementioned Board members, the Secretary of Homeland Security, whenever the U.S. Coast Guard is not operating as a service in the U.S. Navy, may designate two officers of the U.S. Coast Guard, Regular or Reserve, to serve as voting members of the Board.

Board members appointed by the Secretary of Defense, who are not full-time or permanent part-time federal employees, shall be appointed as experts and consultants under the authority of 5 U.S.C. 3109 and shall serve as special government employees. The Secretary of Defense shall renew their appointments on an annual basis.

With the exception of travel and per diem for official travel, Board members shall serve without compensation.

The Assistant Secretaries of the Military Departments listed above are ex officio members and serve based upon their positions in the Department of Defense.

The regular government employees listed in subparagraphs f, g, h, and i are designated or appointed by the Secretary of Defense and shall be renewed on an annual basis.

With DoD approval, the Board is authorized to establish subcommittees, as necessary and consistent with its mission. These subcommittees shall operate under the provisions of the Federal Advisory Committee Act of 1972, the Government in the Sunshine Act of 1976 (5 U.S.C. 552b), and other governing Federal statutes and regulations.

Such subcommittees shall not work independently of the chartered Board, and shall report all their recommendations and advice to the Board for full deliberation and discussion. Subcommittees have no authority to make decisions on behalf of the chartered Board; nor can they report directly to the Department of Defense or any Federal officers or employees who are not Board members.

Subcommittee members, who are not Board members, shall be appointed in the same manner as the Board members. Such individuals, if not full-time or part-time government employees, shall be appointed to serve as experts and consultants under the authority of 5 U.S.C. 3109, and serve as special government employees, whose appointments must be renewed on an annual basis. With the exception of travel, subcommittee members shall serve without compensation.

SUPPLEMENTARY INFORMATION: The Board pursuant to section 596(c)(2) of Public Law 110-417, shall meet at the call of the Board's Designated Federal Officer, in consultation with the Board's Chairperson and the estimated number of Board meetings is four per year.

The Designated Federal Officer, pursuant to DoD policy, shall be a full-time or permanent part-time DoD employee, and shall be appointed in accordance with governing DoD policies and procedures. In addition, the Designated Federal Officer is required to be in attendance at all Board and subcommittee meetings for the entire duration of each and every meeting; however, in the absence of the Designated Federal Officer, the Alternate Designated Federal Officer shall attend the entire duration of the Board or subcommittee meeting.

Pursuant to 41 CFR 102-3.105(j) and 102-3.140, the public or interested organizations may submit written statements to the Reserve Forces Policy Board's membership about the Board's mission and functions. Written statements may be submitted at any time or in response to the stated agenda of planned meeting of Reserve Forces Policy Board.

All written statements shall be submitted to the Designated Federal Officer for the Reserve Forces Policy Board, and this individual will ensure that the written statements are provided to the membership for their consideration. Contact information for the Reserve Forces Policy Board Designated Federal Officer can be obtained from the GSA's FACA Database— https://www.fido.gov/facadatabase/public.asp.

The Designated Federal Officer, pursuant to 41 CFR 102-3.150, will announce planned meetings of the Reserve Forces Policy Board. The Designated Federal Officer, at that time, may provide additional guidance on the submission of written statements that are in response to the stated agenda for the planned meeting in question.

FOR FURTHER INFORMATION CONTACT: Contact Jim Freeman, Deputy Advisory Committee Management Officer for the Department of Defense, 703-601-6128.

Dated: April 7, 2011.
Morgan F. Park,
Alternate OSD Federal Register Liaison Officer, Department of Defense.

[FR Doc. 2011-8637 Filed 4-11-11; 8:45 am]

BILLING CODE 5001-06-P